FEDERAL RESERVE SYSTEM

Formations of, Acquisitions by, and Mergers of Bank Holding Companies; Correction

This notice corrects a notice (FR Doc. E7-12775) published on pages 36455-36456 of the issue for Tuesday, July 3, 2007.

Under the Federal Reserve Bank of Chicago heading, the entry for Metropolitan Bank Group, and Alpha Bancorp, Inc., both of Chicago, Illinois, is revised to read as follows:

A. Federal Reserve Bank of Chicago (Burl Thornton, Assistant Vice President) 230 South LaSalle Street, Chicago, Illinois 60690-1414:

1. Metropolitan Bank Group, Inc.; Alpha Bancorp, Inc.; Metropolitan Bancorp, Inc.; and Plaza Bancorp, Inc., all of Chicago, Illinois; to acquire 100 percent of the voting shares of Oswego Bancshares, Inc., and thereby indirectly acquire voting shares of Oswego Community Bank, both of Oswego, Illinois.

Comments on this application must be received by July 26, 2007.

Board of Governors of the Federal Reserve System, July 6, 2007.
Robert deV. Frierson,
Deputy Secretary of the Board.

[FR Doc. E7-13405 Filed 7-10-07; 8:45 am]

BILLING CODE 6210-01-S